DEPARTMENT OF HEALTH AND HUMAN SERVICES

Centers for Disease Control and Prevention

[30Day-22-22FC]

Agency Forms Undergoing Paperwork Reduction Act Review

In accordance with the Paperwork Reduction Act of 1995, the Centers for Disease Control and Prevention (CDC) has submitted the information collection request titled “Assessing the Capacity of Vector Management Programs in the United States to Provide Comprehensive Community-level Tick Management Services” to the Office of Management and budget (OMB) for review and approval. CDC previously published a “Proposed Data Collection Submitted for Public Comment and Recommendations” notice on May 13, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to: Attention: CDC Desk Officer, Office of Management and Budget, 725 17th Street NW, Washington, DC 20503 or by fax to (202) 395-5806. Provide written comments within 30 days of notice publication.

Proposed Project

Assessing the Capacity of Vector Management Programs in the U.S. to Provide Comprehensive Community-level Tick Management Services—New—National Center for Emerging and Zoonotic Infectious Diseases (NCEZID), Centers for Disease Control and Prevention (CDC).

Background and Brief Description

Previous surveys have focused on private pest management firms or agencies in a single state. The overall capacity for publicly-funded comprehensive tick management in the regions of interest remains poorly understood, especially in high incidence areas. Data collected by engaging vector management program staff will inform the development of sustainable and effective community-level tick management programs by assessing the feasibility of program components, the resources necessary to add new functions to existing vector management programs, and the expected costs associated with delivering comprehensive tick management services. This survey will identify robust vector management programs with which CDC can partner to refine guidance for the development of comprehensive community-level tick management programs, which can be adapted to specific regional ecologies and communities. Ultimately, this survey is an important first step toward developing a community of practice for publicly-funded, comprehensive tick management programs in the U.S. The survey will lay the groundwork for efforts to establish local entities capable of first evaluating the efficacy of tick control methods, and then broadly deploying those measures proven effective, and publicly-acceptable in order to: (a) reduce the number of infected ticks in the environment; and (b) reduce human bites by infected ticks.

The primary goals of this project are two-fold: (1) assess the current tick management capacity and knowledge in vector management programs that receive public funding in the Upper Midwest, mid-Atlantic, Northeast, and Pacific coast states; and (2) determine the services that vector management program staff believe should be part of comprehensive tick management programs if they are developed in the future. We also hope to identify barriers to the development of comprehensive tick management programs and ways CDC can begin to address gaps.

CDC requests OMB approval for an estimated 63 annual burden hours. There are no costs to respondent other than the time needed to participate.

Estimated Annualized Burden Hours
Type of respondents | Form name | Number of respondents | Number of responses per respondent | Average burden per response (in hours)
Public Vector Control Operators |  | 200 | 1 | 15/60
Private Vector Control Operators |  | 100 | 1 | 8/60

Jeffrey M. Zirger,
Lead, Information Collection Review Office, Office of Scientific Integrity, Office of Science, Centers for Disease Control and Prevention.

[FR Doc. 2022-20124 Filed 9-15-22; 8:45 am]

BILLING CODE 4163-18-P